DEPARTMENT OF COMMERCE

International Trade Administration

[A-583-828]

Stainless Steel Wire Rod From Taiwan; Final Results of Antidumping Duty Administrative Review

AGENCY: Import Administration, International Trade Administration, U.S. Department of Commerce.

ACTION: Notice of final results of antidumping duty administrative review.

SUMMARY: On June 12, 2001, the Department of Commerce (the Department) published the preliminary results of administrative review of the antidumping duty order on stainless steel wire rod (SSWR) from Taiwan (66 FR 31613). This review covers one manufacturer/exporter of the subject merchandise. The period of review (POR) is September 1, 1999, through August 31, 2000.

We gave interested parties an opportunity to comment on the preliminary results. Based on our analysis of the comments received, we have not made any changes in the margin calculations presented in the preliminary results of review. The final weighted-average dumping margins for the company under review is listed below in the section entitled “Final Results of Review.”

EFFECTIVE DATE: October 15, 2001.

FOR FURTHER INFORMATION CONTACT: Alexander Amdur or Karine Gziryan, Office of AD/CVD Enforcement, Group II, Office 4, Import Administration, International Trade Administration, U.S. Department of Commerce, 14th Street and Constitution Avenue, NW., Washington, DC 20230; telephone (202) 482-5346 and (202) 482-4081, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (2000).

Background

This review covers one manufacturer/exporter, Walsin Lihwa Corporation (Walsin). The POR is September 1, 1999, through August 31, 2000.

On June 12, 2001, the Department published in the Federal Register the preliminary results of administrative review of the antidumping duty order on stainless steel wire rod (SSWR) from Taiwan. See Stainless Steel Wire Rod from Taiwan; Preliminary Results of Antidumping Duty Administrative Review, 66 FR 31613 (June 12, 2001) (Preliminary Results).

We invited parties to comment on our preliminary results of review. On July 17, 2001, the respondent, Walsin, submitted a case brief. The petitioners (i.e., Carpenter Technology Corp., Empire Specialty Steel, and the United Steel Workers of America, AFL-CIO/CLC), submitted a rebuttal brief on July 24, 2001. At the request of Walsin, the respondent, we held a public hearing on August 21, 2001.

The Department has conducted this administrative review in accordance with section 751 of the Act.

Scope of the Order

For purposes of this review, SSWR comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Two stainless steel grades are excluded from the scope of the review. SF20T and K-M35FL are excluded. The chemical makeup for the excluded grades is as follows:

SF20T

Carbon 0.05 max

Manganese 2.00 max

Phosphorous 0.05 max

Sulfur 0.15 max

Silicon 1.00 max

Chromium 19.00/21.00

Molybdenum 1.50/2.50

Lead-added (0.10/0.30)

Tellurium-added (0.03 min)

K-M35FL

Carbon 0.015 max

Silicon 0.70/1.00

Manganese 0.40 max

Nickel 0.30 max

Chromium 12.50/14.00

Lead 0.10/0.30

Phosphorous 0.04 max

Sulfur 0.03 max

Aluminum 0.20/0.35

The products subject to this review are currently classifiable under subheadings 7221.00.0005, 7221.00.0015, 7221.00.0030, 7221.00.0045, and 7221.00.0075 of the Harmonized Tariff Schedule of the United States (HTSUS). Although the HTSUS subheadings are provided for convenience and customs purposes, the written description of the scope of this review is dispositive.

Duty Absorption

On November 14, 2000, the petitioners requested that the Department determine whether antidumping duties had been absorbed during the POR by the respondent. Section 751(a)(4) of the Act provides for the Department, if requested, to determine during an administrative review initiated two or four years after the publication of the order, whether antidumping duties have been absorbed by a foreign producer or exporter, if the subject merchandise is sold in the United States through an affiliated importer. This review was initiated two years after the publication of the order. However, because Walsin did not sell to unaffiliated customers in the United States through an importer that is affiliated, we will not make a duty absorption determination in this segment of the proceeding within the meaning of section 751(a)(4) of the Act.¹

¹ We note that we inadvertently overlooked the petitioners' November 14, 2000 allegation for inclusion in the Preliminary Results. However, no party has alleged in this proceeding that Walsin sold to unaffiliated customers in the United States through an affiliated importer. We therefore believe that making our decision at this point in the proceeding to not make a duty absorption determination will not prejudice any party.

Successorship

In the Preliminary Results, we preliminarily determined that Walsin is the successor to Walsin CarTech Specialty Steel Corporation (Walsin CarTech) for purposes of this proceeding, and for the application of the antidumping law. See Preliminary Results, 66 FR at 31614. Because we received no comments on this issue, for the reasons stated in the Preliminary Results, and based on the facts on the record, we find Walsin to be the successor to Walsin CarTech for purposes of this proceeding, and for the application of the antidumping law.

Analysis of Comments Received

All issues raised in the case and rebuttal briefs by parties to this proceeding and to which we have responded are listed in the Appendix to this notice and addressed in the “Issues and Decision Memorandum” (Decision Memorandum), dated October 10, 2001, which is hereby adopted by this notice. Parties can find a complete discussion of the issues raised in this review and the corresponding recommendations in the public Decision Memorandum which is on file in the Central Records Unit, room B-099 of the main Department building. In addition, a complete version of the Decision Memorandum can be accessed directly on the Web at http://ia.ita.doc.gov. The paper copy and electronic version of the Decision Memorandum are identical in content.

Final Results of Review

We determine that the following weighted-average percentage margin exists for the period September 1, 1999, through August 31, 2000:

Manufacturer/exporter | Margin (percent)
Walsin Lihwa Corporation | 4.75

The Department shall determine, and Customs shall assess, antidumping duties on all appropriate entries. In accordance with 19 CFR 351.212(b), we have calculated importer-specific assessment rates. We divided the total dumping margins for the reviewed sales by the quantity sold used to calculate those margins for each importer.² Where the resulting importer-specific per-unit duty assessment rate is above de minimis, we will direct Customs to assess that rate uniformly on each of that importer's entries during the review period.

² In the Preliminary Results, we incorrectly stated that we calculated each importers' duty assessment rate by dividing the total dumping margins for the reviewed sales by their total entered value for each importer, while in fact, we calculated an assessment rate using the total quantity sold in the denominator of this calculation because Walsin did not report the entered value of its sales.

Since we have determined that Walsin is the successor to Walsin CarTech for purposes of applying the antidumping duty law, we will further instruct the U.S. Customs Service to assign Walsin CarTech's antidumping company identification number to Walsin.

Cash Deposit Requirements

The following deposit requirements will be effective upon publication of this notice of final results of administrative review for all shipments of SSWR from Taiwan entered, or withdrawn from warehouse, for consumption on or after the date of publication, as provided by section 751(a)(1) of the Act: (1) The cash deposit rate for the reviewed firm will be the rate shown above; (2) for previously reviewed or investigated companies not listed above (except for Walsin CarTech ³), the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 8.29 percent. This rate is the “All Others” rate from the LTFV investigation.

³ Since we have determined that Walsin is the successor to Walsin CarTech for purposes of applying the antidumping duty law, Walsin CarTech will no longer have its own company-specific cash deposit rate.

These cash deposit requirements, when imposed. shall remain in effect until publication of the final results of the next administrative review.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

We are issuing and publishing this determination and notice in accordance with sections section 751(a)(1) and 777(i) (1) of the Act.

Dated: October 10, 2001.
Faryar Shirzad,
Assistant Secretary for Import Administration.

Appendix—Issues in Decision Memo

1. Interest Expense Calculation: Use of Consolidated Financial Statement

2. Interest Expense Calculation: Inclusion of Interest Expense Related to Investments

3. Interest Expense Calculation: Offsetting Total Interest Expenses with Capital Gains

[FR Doc. 01-25975 Filed 10-15-01; 8:45 am]

BILLING CODE 3510-DS-P